DEPARTMENT OF DEFENSE

Office of the Secretary

Scoping Comment Period Extension for the Notice of Intent To Prepare an Environmental Impact Statement for an Enhanced Integrated Air and Missile Defense System on Guam

AGENCY: Missile Defense Agency (MDA), Department of Defense (DoD).

ACTION: Notice of intent; extension of comment period.

SUMMARY: The MDA is extending the scoping comment period for the notice of intent entitled “Notice of Intent to Prepare an Environmental Impact Statement for an Enhanced Integrated Air and Missile Defense System on Guam,” published in the Federal Register on May 5, 2023. The MDA is extending the scoping period to August 11, 2023, in response to Typhoon Mawar-related damage and recovery efforts on Guam. In addition, the MDA will reschedule the in-person open house scoping meetings on Guam to the summer of 2023.

DATES: The scoping comment period for the notice of intent published in the Federal Register on May 5, 2023 (88 FR 29104) is extended. Comments must be postmarked or received on or before August 11, 2023, to ensure consideration in the Draft Environmental Impact Statement (EIS).

ADDRESSES: Written comments should be sent via email to info@EIAMD-EIS.com; via the website comment submission form on www.EIAMD-EIS.com; or by United States (U.S.) Postal Service to: ManTech International Corporation, Attention: EIAMD EIS Project Support, PMB 403, 1270 N Marine Corps Drive, Suite 101, Tamuning, Guam 96913-4331. Written comments will also be accepted at the public scoping meetings. All comments, including names and addresses, will be included in the administrative record, but personal information will be kept confidential unless release is required by law.

FOR FURTHER INFORMATION CONTACT: Mr. Mark Wright, MDA Public Affairs, at 571-231-8212 or by email to mda.info@mda.mil. Additional information on the Proposed Action can be found at the MDA website: https://www.mda.mil/system/eiamd.html.

SUPPLEMENTARY INFORMATION: On May 5, 2023, the MDA published notice of intent entitled “Notice of Intent to Prepare an Environmental Impact Statement for an Enhanced Integrated Air and Missile Defense System on Guam” (88 FR 29104). The EIS will evaluate the potential environmental impacts from the proposed deployment and operation of missile defense radars, sensors, missile interceptors, missile launchers, and command and control systems; construction and operation of associated support facilities and infrastructure; and management of associated airspace on Guam (hereafter called “Proposed Action”). The MDA invited comments on the scope of the EIS including identification of potential alternatives, information, and analyses relevant to the Proposed Action, and the Proposed Action's potential to affect historic properties pursuant to Section 106 of the National Historic Preservation Act of 1966. The original scoping comment period was scheduled to close on June 27, 2023, with three in-person open house scoping meetings planned on Guam in June 2023.

With this notice, the MDA is extending the scoping comment period to August 11, 2023, in response to Typhoon Mawar-related damage and recovery efforts on Guam.

In addition, the MDA will reschedule the in-person open house scoping meetings on Guam to the summer of 2023. Notification for the meeting locations, dates, and times will be published and announced in local news media to encourage public participation. Access to meeting information can also be found on the MDA website at https://www.mda.mil/system/eiamd.html.

Dated: June 2, 2023.
Aaron T. Siegel,
Alternate OSD Federal Register Liaison Officer, Department of Defense.

[FR Doc. 2023-12203 Filed 6-8-23; 8:45 am]

BILLING CODE 5001-06-P